DEPARTMENT OF VETERANS AFFAIRS

Advisory Committee on Former Prisoners of War; Notice of Meeting

The Department of Veterans Affairs (VA) gives notice under the Federal Advisory Committee Act, 5 U.S.C. App. 2, that the Advisory Committee on Former Prisoners of War (FPOW) will meet on October 5-7, 2015. The first two meetings will be held on October 5-6 from 9:00 a.m. to 4:00 p.m. at the Audie Murphy VA Medical Center, 7400 Merton Minter Blvd., San Antonio, TX. The third meeting will be held on October 7 from 9:00 a.m. to 12:00 p.m. at the Courtyard Marriott, 8585 Marriott Dr., San Antonio, TX. The meetings are open to the public.

The purpose of the Committee is to advise the Secretary of VA on the administration of benefits under title 38, United States Code, for Veterans who are FPOWs. The Committee also makes recommendations on the needs of FPOW Veterans for compensation, health care, and rehabilitation.

The Committee will hear from its Chairman and will receive briefings by representatives from the Veterans Benefits Administration and the Veterans Health Administration. On October 6, at 3:30 p.m., the Committee will host an open public forum and FPOW panel to gain information from FPOWs about their experiences, issues, and recommendations for health benefits and claims processing. Participation is limited to FPOWs. On October 7, the Committee will begin drafting their 2016 recommendations and decide the location of their next meeting in the spring.

FPOWs who wish to speak at the public forum are invited to submit a 1-2 page summary of their comments at the end of the meeting for inclusion in the official meeting record. Members of the public may also submit written statements for the Committee's review to Mr. Eric Robinson, Designated Federal Officer, Advisory Committee on Former Prisoners of War, (and Program Analyst, Compensation Service), Department of Veterans Affairs, 810 Vermont Avenue NW., Washington, DC 20420 (212), or by email at eric.robinson3@va.gov. Any member of the public seeking additional information should contact Mr. Robinson by email or call (202) 443-6016.

Dated: September 9, 2015.
Jelessa Burney,
Federal Advisory Committee Management Officer.

[FR Doc. 2015-23023 Filed 9-11-15; 8:45 am]

BILLING CODE P